DEPARTMENT OF STATE

[Public Notice: 9114]

Shipping Coordinating Committee; Notice of Committee Meeting

The Shipping Coordinating Committee (SHC) will conduct an open meeting at 9:00 a.m. on Tuesday, May 26, 2015, Room 8, 9, 10 of the United States Department of Transportation, 1200 New Jersey Ave. SE., Washington, DC 20590. The primary purpose of the meeting is to prepare for the ninety fifth Session of the International Maritime Organization's (IMO) Maritime Safety Committee to be held at the IMO Headquarters, United Kingdom, from June 3 to June 12, 2015.

The agenda items to be considered include:

—Adoption of the agenda; report on credentials

—Decisions of other IMO bodies

—Consideration and adoption of amendments to mandatory instruments

—Measures to enhance maritime security

—Goal-based new ship construction standards

—Passenger ship safety

—Performance review and audit of LRIT Data Centres

—Carriage of cargoes and containers (report of the first session of the Sub-Committee)

—Human element, training and watch keeping (report of the second session of the Sub-Committee)

—Ship design and construction (report of the second session of the Sub-Committee)

—Navigation, communications and search and rescue (report of the second session of the Sub-Committee)

—Ship systems and equipment (urgent matters emanating from the second session of the Sub-Committee)

—Capacity building for the implementation of new measures

—Formal safety assessment, including general cargo ship safety

—Piracy and armed robbery against ships

—Implementation of instruments and related matters

—Relations with other organizations

—Application of the Committee's Guidelines

—Work programme

—Election of Chairman and Vice-Chairman for 2016

—Any other business

—Consideration of the report of the Committee on its ninety-fifth session

Members of the public may attend this meeting up to the seating capacity of the room. To facilitate the building security process, and to request reasonable accommodation, those who plan to attend should contact the meeting coordinator, LCDR Tiffany Duffy, by email at tiffany.a.duffy@uscg.mil, by phone at (202) 372-1403, by fax at (202) 372-1925, or in writing at Commandant (CG-5PS), U.S. Coast Guard, 2100 2nd Street SW., Stop 7126, Washington, DC 20593-7126 not later than May 19, 2015, 7 days prior to the meeting. Requests made after May 19, 2015 might not be able to be accommodated. Please note that due to security considerations, two valid, government issued photo identifications must be presented to gain entrance to the building. The Department of Transportation building is accessible by taxi and privately owned conveyance and public transportation. However, parking in the vicinity of the building is limited. Additional information regarding this and other IMO SHC public meetings may be found at: www.uscg.mil/imo.

Dated: April 22, 2015.
Marc Zlomek,
Executive Secretary, Shipping Coordinating Committee, Department of State.

[FR Doc. 2015-10148 Filed 4-29-15; 8:45 am]

BILLING CODE 4710-09-P